ENVIRONMENTAL PROTECTION AGENCY

[EPA-HQ-OPP-2009-0143; FRL-8423-2]

FED Consulting, Inc.; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to FED Consulting, Inc. in accordance with 40 CFR 2.307(h)(3) and 2.308(i)(2). FED Consulting, Inc. has been awarded multiple contracts to perform work for OPP, and access to this information will enable FED Consulting, Inc. to fulfill the obligations of the contract.

DATES: FED Consulting, Inc. will be given access to this information on or before July 13, 2009.

FOR FURTHER INFORMATION CONTACT: Felicia Croom, Information Technology and Resources Management Division (7502P), Office of Pesticide Programs, Environmental Protection Agency, 1200 Pennsylvania Ave., NW., Washington, DC 20460-0001; telephone number: (703) 305-0786; e-mail address: croom.felicia@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2009-0143. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the Federal Register listings at http://www.epa.gov/fedrgstr.

II. Contractor Requirements

Under these contract numbers, the contractor will perform the following:

Under Contract No. EP-W-08-053, FED Consulting, Inc. was acquired to provide official records support and maintenance to the nine offices within the Office of Enforcement Compliance and Assurance (OECA). This maintenance includes inventory and retirement of records and the development and revision of OECA's records guidance manual. OECA has a wide range of specialized records which include but are not limited to compliance and enforcement records, air monitoring and forecasting records, investigations and surveillance of environmental criminal records, and environmental and environmental remediation records. OECA has general records which include, but are not limited to: Publications; annual reports; Freedom of Information Act and administrative records.

This contract involves no subcontractors.

The OPP has determined that the contract described in this document involves work that is being conducted in connection with FIFRA, in that pesticide chemicals will be the subject of certain evaluations to be made under this contract. These evaluations may be used in subsequent regulatory decisions under FIFRA.

Some of this information may be entitled to confidential treatment. The information has been submitted to EPA under sections 3, 4, 6, and 7 of FIFRA and under sections 408 and 409 of FFDCA.

In accordance with the requirements of 40 CFR 2.307(h)(3), the contract with FED Consulting, Inc., prohibits use of the information for any purpose not specified in this contract; prohibits disclosure of the information to a third party without prior written approval from the Agency; and requires that each official and employee of the contractor sign an agreement to protect the information from unauthorized release and to handle it in accordance with the FIFRA Information Security Manual. In addition, FED Consulting, Inc. is required to submit, for EPA approval, a security plan under which any CBI will be secured and protected against unauthorized release or compromise. No information will be provided to FED Consulting, Inc. until the requirements in this document have been fully satisfied. Records of information provided to FED Consulting, Inc. will be maintained by EPA Project Officers for this contract. All information supplied to FED Consulting, Inc. by EPA for use in connection with this contract will be returned to EPA when FED Consulting, Inc. has completed its work.

List of Subjects

Environmental protection, Business and industry, Government contracts, Government property, Security measures.

Dated: June 19, 2009.
Steven Bradbury,
Acting Director, Office of Pesticide Programs.

[FR Doc. E9-15935 Filed 7-7-09; 8:45 a.m.]

BILLING CODE 6560-50-S